ENVIRONMENTAL PROTECTION AGENCY

[OAR-2004-0237; FRL-7891-9]

Animal Feeding Operations Consent Agreement and Final Order

AGENCY: Environmental Protection Agency (EPA).

ACTION: Supplemental notice to extend signup period for consent agreement and final order, and reopening for public comment.

SUMMARY: On January 31, 2005 (70 FR 4958), EPA announced an opportunity for animal feeding operations (AFOs) to sign a voluntary consent agreement and final order (air compliance agreement). This supplemental notice announces an extension to the signup period for the consent agreement and final order, as well as the reopening of the public comment period.

DATES: Comments must be received on or before May 2, 2005. The signup period is extended to July 1, 2005.

ADDRESSES: Submit your comments, identified by Docket ID No. OAR-2004-0237, by one of the following methods:

• Agency Web site: http://www.epa.gov/edocket. EDOCKET, EPA's electronic public docket and comment system, is EPA's preferred method for receiving comments. Follow the on-line instructions for submitting comments.

• E-mail: a-and-r-docket@epa.gov.

• Fax: (202) 566-1741.

• Mail: Air Docket, Environmental Protection Agency, Mailcode: 6102T, 1200 Pennsylvania Ave., NW., Washington, DC 20460. Please include a total of two copies.

• Hand Delivery: Environmental Protection Agency, 1301 Constitution Avenue, NW., Room B102, Washington, DC 20460. Such deliveries are only accepted during the Docket's normal hours of operation, and special arrangements should be made for deliveries of boxed information.

Instructions: Direct your comments to Docket ID No. OAR-2004-0237. The EPA's policy is that all comments received will be included in the public docket without change and may be made available online at http://www.epa.gov/edocket, including any personal information provided, unless the comment includes information claimed to be Confidential Business Information (CBI) or other information whose disclosure is restricted by statute. Do not submit information that you consider to be CBI or otherwise protected through EDOCKET, regulations.gov, or e-mail. The EPA EDOCKET and the Federal regulations.gov Web sites are “anonymous access” systems, which means EPA will not know your identity or contact information unless you provide it in the body of your comment. If you send an e-mail comment directly to EPA without going through EDOCKET or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the EDOCKET index at http://www.epa.gov/edocket. Although listed in the index, some information is not publicly available, i.e., CBI or other information whose disclosure is restricted by statute. Certain other information, such as copyrighted materials, is not placed on the Internet and will be publicly available only in hard copy form. Publicly available docket materials are available either electronically in EDOCKET or in hard copy form at Docket ID No. OAR-2004-0237, EPA/DC, EPA West, Room B102, 1301 Constitution Ave., NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: For information on the air compliance agreement, contact Mr. Bruce Fergusson, Special Litigation and Projects Division, Office of Enforcement and Compliance Assurance, U.S. EPA, Ariel Rios Building, Washington, DC 20460, telephone number (202) 564-1261, fax number (202) 564-0010, and electronic mail: fergusson.bruce@epa.gov.

For information on the monitoring study, contact Ms. Sharon Nizich, Organic Chemicals Group, Emission Standards Division, Office of Air Quality Planning and Standards, U.S. EPA, Research Triangle Park NC 27711, telephone number (919) 541-2825, fax number (919) 541-3470, and electronic mail: nizich.sharon@epa.gov.

SUPPLEMENTARY INFORMATION: In order to provide more time for public comment and for affected industry members to make informed decisions about participation, the comment period is being reopened on EPA's air compliance agreement to address emissions from certain AFOs. The comment period will reopen April 1, 2005 until May 2, 2005. Any public comments received in the time period from March 3 through March 31, 2005, will be considered as timely comments for the purpose of this action. The air compliance agreement is part of the Agency's ongoing effort to minimize air emissions from such operations and to ensure compliance with the Clean Air Act and other laws.

Due to substantial public response and to accommodate further outreach and communication with interested participants, we are extending the signup period for the air compliance agreement to July 1, 2005.

Interested parties should refer to the January 31, 2005 Federal Register notice (70 FR 4958) to view the consent agreement and final order at Appendix 1, Attachment A—Farm Information Sheet, and Attachment B—National Air Emissions Monitoring Study Protocol.

Dated: March 23, 2005.
Sally L. Shaver,
Director, Emission Standards Division, Office of Air Quality Planning and Standards.
Robert A. Kaplan,
Director, Special Litigation and Projects Division, Office of Civil Enforcement Office of Enforcement and Compliance Assurance.

[FR Doc. 05-6279 Filed 3-29-05; 8:45 am]

BILLING CODE 6560-50-P